DEPARTMENT OF COMMERCE

National Oceanic and Atmospheric Administration

[I.D. 091200E]

Mid-Atlantic Fishery Management Council; Public Meeting

AGENCY: National Marine Fisheries Service (NMFS), National Oceanic and Atmospheric Administration (NOAA), Commerce.

ACTION: Notice of public meeting.

SUMMARY: The Mid-Atlantic Fishery Management Council and the New England Fishery Management Council’s Joint Dogfish Committee will hold a public meeting.

DATES: The meeting will be held on Wednesday, October 4, 2000, from 10 a.m. until 5 p.m.

ADDRESSES: This meeting will be held at the Sheraton Society Hill, One Dock Street, Philadelphia, PA; telephone: 215-238-6000.

Council address: Mid-Atlantic Fishery Management Council, Room 2115, 300 S. New Street, Dover, DE 19904. New England Fishery Management Council, 50 Water Street, The Tannery - Mill 2, Newburyport, MA 01950.

FOR FURTHER INFORMATION CONTACT: Daniel T. Furlong, Executive Director, Mid-Atlantic Fishery Management Council; telephone: 302-674-2331, ext. 19, or Paul Howard, Executive Director, New England Fishery Management Council; telephone: 978-465-0492.

SUPPLEMENTARY INFORMATION: The purpose of this meeting is to review the Atlantic States Marine Fisheries Commission’s spiny dogfish management update, review updated status of stock information, review issues/management measures to be considered for Amendment 1 (alternative stock rebuilding strategies and schedules, quota management measures, measures to reduce discards, limited access, measures to address fishery management plan deficiencies with respect to spawning stock biomass target, essential fish habitat and gear impacts), and discuss 2001-02 management measures.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Joanna Davis at the Mid- Atlantic Council Office (see ADDRESSES) at least 5 days prior to the meeting date.

Dated: September 13, 2000.
Bruce C. Morehead,
Acting Director, Office of Sustainable Fisheries, National Marine Fisheries Service.

[FR Doc. 00-23924 Filed 9-15-00; 8:45 am]

BILLING CODE 3510-22-S